NATIONAL SCIENCE FOUNDATION

Notice of Permits Issued Under the Antarctic Conservation Act of 1978

AGENCY: National Science Foundation

ACTION: Notice of permits issued under the Antarctic Conservation of 1978, Pub. L. 95-541.

SUMMARY: The National Science Foundation (NSF) is required to publish notice of permits under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On August 13, 2003 and August 19, 2003, the National Science Foundation published notices in the Federal Register of a permit applications received. Permits were issued on September 16, 2003, and September 24, 2003, to Paul J. Ponganis (2004-010) and David Caron (2004-012) respectively.

Nadene G. Kennedy,
Permit Officer.

[FR Doc. 03-24948 Filed 10-1-03; 8:45 am]

BILLING CODE 7555-01-M